DEPARTMENT OF TRANSPORTATION

Office of the Secretary

49 CFR Part 71

[Docket No. OST-2003-15858]

RIN 2105-AD30

Standard Time Zone Boundary in the State of South Dakota: Relocation of Jones, Mellette, and Todd Counties

AGENCY: Office of the Secretary (OST), Department of Transportation (DOT).

ACTION: Final rule.

SUMMARY: In response to a concurrent resolution of the South Dakota legislature, DOT is relocating the boundary between mountain time and central time in the State of South Dakota. DOT is placing all of Jones, Mellette, and Todd Counties in the central time zone.

EFFECTIVE DATE: 2 a.m. MDT Sunday, October 26, 2003, which is the changeover from daylight saving to standard time.

FOR FURTHER INFORMATION CONTACT: Joanne Petrie, Office of the Assistant General Counsel for Regulation and Enforcement, U.S. Department of Transportation, Room 10424, 400 Seventh Street, Washington, DC 20590, (202) 366-9315, or by e-mail at joanne.petrie@ost.dot.gov.

SUPPLEMENTARY INFORMATION: Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.”

Time zone boundaries are set by regulation (49 CFR part 71). Currently, under regulation, Mellette and Todd Counties, and the western portion of Jones County, are located in the mountain standard time zone. The eastern portion of Jones County is currently located in the central time zone.

Request for a Change

The South Dakota legislature adopted a concurrent resolution (Senate Concurrent Resolution No. 3) petitioning the Secretary of Transportation to place all of Jones, Mellette, and Todd counties into the central time zone. The resolution was adopted by the South Dakota Senate on February 3, 2003, and concurred in by the South Dakota House of Representatives on February 7, 2003. The resolution noted, among other things, that the vast majority of residents of those counties observe central standard time, instead of mountain standard time, because their commercial and social ties are to communities located in the central time zone. It further stated that there would be much less confusion and that it would be much more convenient for the commerce of these counties if these counties were located in the central time zone. A copy of the resolution has been placed in the docket.

Procedure for Changing a Time Zone Boundary

Under DOT procedures to change a time zone boundary, the Department will generally begin a rulemaking proceeding if the highest elected officials in the area make a prima facie case for the proposed change. DOT determined that the concurrent resolution of the South Dakota legislature made a prima facie case that warranted opening a proceeding to determine whether the change should be made. On August 11, 2003, DOT published a notice of proposed rulemaking (68 FR 47533) proposing to make the requested change and invited public comment. The NPRM proposed that this change go into effect during the next changeover from daylight saving time to standard time, which is on October 26, 2003.

Comments

Two comments were filed. One, which was filed by the South Dakota Secretary of State, supported the change. He stated that “The proposal to place all of Jones, Mellette and Todd Counties in the central time zone would eliminate confusion these counties have when elections are conducted. Eliminating this confusion will improve voter turnout in these counties. South Dakota's polling hours are from 7 a.m. to 7 p.m. legal time. These counties that are legally set in mountain time follow central time for their business hours, therefore causing confusion in the past on what time zone to use for polling hours for local, state and federal elections.” The other comment objected to daylight saving time observance and suggested that all states should be in the same time zone.

We did not hold a public hearing in the area because of the unusual circumstances in this case. According to the State legislature, the vast majority of people in the affected area are already observing central time. We consulted with a variety of State, local, tribal, and federal officials to confirm the local observance and ask whether a hearing would be helpful in this case. Almost all believed that it would not.

This final rule makes the proposed change. It is effective during the next changeover from daylight saving time to standard time, which is October 26, 2003. We find good cause to make this effective with less than 30 days notice because the final rule merely conforms the regulation to the longstanding and almost universal time observance in the area.

Impact on Observance of Daylight Saving Time

This rule does not directly affect the observance of daylight saving time. Under the Uniform Time Act of 1966, as amended, the standard time of each time zone in the United States is advanced one hour from 2 a.m. on the first Sunday in April until 2 a.m. on the last Sunday in October, except in any State that has, by law, exempted itself from this observance.

Regulatory Analysis & Notices

This final rule is not a “significant regulatory action” under section 3(f) of Executive Order 12866 and does not require an assessment of potential costs and benefits under section 6(a)(3) of that Order. It has not been reviewed by the Office of Management and Budget under that Order. It is not “significant” under the regulatory policies and procedures of the Department of Transportation (44 FR 11040; February 26, 1979). We expect the economic impact of this final rule to be so minimal that a full Regulatory Evaluation under paragraph 10e of the regulatory policies and procedures of DOT is unnecessary. The rule primarily affects the convenience of individuals in scheduling activities. By itself, it imposes no direct costs. Its impact is localized in nature.

Small Entities

Under the Regulatory Flexibility Act (5 U.S.C. 601-612), we considered whether this final rule will have a significant economic impact on a substantial number of small entities. The term “small entities” comprises small businesses, not-for-profit organizations, and governmental jurisdictions with populations of less than 50,000. This final rule will primarily affect individuals and their scheduling of activities. Although it will affect some small businesses, not-for-profits and, perhaps, several small governmental jurisdictions, it will not be a substantial number. In addition, the change should have little, if any, economic impact. Therefore, the Office of the Secretary certifies under 5 U.S.C. 605(b) that this final rule will not have a significant economic impact on a substantial number of small entities.

Collection of Information

This final rule does not require any new collection of information under the Paperwork Reduction Act of 1995 (44 U.S.C. 3501-3520).

Federalism

We have analyzed this final rule under E.O. 12612 and have determined that this rule does not have sufficient federalism implications to warrant the preparation of a Federalism Assessment.

Unfunded Mandates

The Unfunded Mandates Reform Act of 1995 (2 U.S.C. 1531-1538) and E.O. 12875, Enhancing the Intergovernmental Partnership, (58 FR 58093, October 28, 1993) govern the issuance of Federal regulations that require unfunded mandates. An unfunded mandate is a regulation that requires a State, local, or tribal government or the private sector to incur direct costs without the Federal Government's having first provided the funds to pay those costs. This final rule will not impose an unfunded mandate.

Taking of Private Property

This final rule will not effect a taking of private property or otherwise have taking implications under E.O. 12630, Governmental Actions and Interference with Constitutionally Protected Property Rights.

Civil Justice Reform

This final rule meets applicable standards in sections 3(a) and 3(b)(2) of E.O. 12988, Civil Justice Reform, to minimize litigation, eliminate ambiguity, and reduce burden.

Protection of Children

We have analyzed this final rule under E.O. 13045, Protection of Children from Environmental Health Risks and Safety Risks. This rule is not an economically significant rule and does not concern an environmental risk to health or risk to safety that may disproportionately affect children.

Environment

This rulemaking is not a major Federal action significantly affecting the quality of the human environment under the National Environmental Policy Act and, therefore, an environmental impact statement is not required.

Consultation and Coordination With Indian Tribal Governments

E.O. 13175 provides that government agencies consult with tribes on issues that impact the Indian community. The Department has consulted with the Rosebud Sioux Tribal Council and has informed them of this action.

List of Subjects in Part 71

Time zones.

For the reasons discussed above, the Office of the Secretary revises title 49 part 71 to read as follows:

PART 71—[AMENDED]

1. The authority citation for part 71 continues to read:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564. 15 U.S.C. 263, 114 Stat. 281149 CFR 159(a), unless otherwise noted.

2. Paragraph (b) of § 71.7, Boundary line between central and mountain zones, is revised to read as follows:

§ 71.7 Boundary line between central and mountain zones.

* * * * *

(b) South Dakota. From the junction of the North Dakota-South Dakota boundary with the Missouri River southerly along the main channel of that river to the crossing of the original Chicago & North Western Railway near Pierre; thence southwesterly to the northern boundary of Jones County at the northeast corner of the NE 1, Sec. 6, T. 2 N., R. 30 E.; thence west along the northern boundary of Jones County; thence south along the western boundaries of Jones, Mellette and Todd Counties to the South Dakota-Nebraska boundary.

* * * * *

Issued in Washington, DC on October 21, 2003.
Norman Y. Mineta,
Secretary.

[FR Doc. 03-27056 Filed 10-24-03; 12:40 pm]

BILLING CODE 4910-62-P